DEPARTMENT OF THE TREASURY

Internal Revenue Service

Quarterly Publication of Individuals, Who Have Chosen To Expatriate

AGENCY: Internal Revenue Service (IRS), Treasury.

ACTION: Notice.

This notice is provided in accordance with IRC section 6039G of the Health Insurance Portability and Accountability Act (HIPAA) of 1996, as amended. This listing contains the name of each individual losing United States citizenship (within the meaning of section 877(a) or 877A) with respect to whom the Secretary received information during the quarter ending June 30, 2022. For purposes of this listing, long-term residents, as defined in section 877(e)(2), are treated as if they were citizens of the United States who lost citizenship.

Last name | First name | Middle name/initials
AARONSON | ILANA | FREDERIEKE
AARONSON | JUSTINE | ANNA
ABEND | GABRIEL
ABERNETHY | COLIN | JOHN
ACKERMANN | LUKAS | SEBASTIAN
ADAMS | CAROLE | ANN
ADDIS | JUSTIN | PATRICK
AHERN | SHAWN | PAUL P GUIMARAES
ALDERSON | BARBARA | ANN BURTON
ALEMANI | MICOL
AL-SUWAIDI | FAISAL
ALTMANN | MICHAEL | BEN
ALVETRO | JAMES | LEONARD
AMMANN | OLIVER | RICHARD AUBREY
ANDERSON | DAVID | JOHN COLQUHOUN
ANDERSON | JEEVAN | KAINTH
ANDERSON | LATEFA
ANDERSON | ROBERT | PAUL
ANDERSON | RONALD | CARL
ANDREAS | VICTORIA | JULIANE
ANDRETZKY | BERNHARD | WILHELM
ANDREWS | JOAN | IRENE
ANNICCHINO | FELIPE | S
ANTUNOVIC | ROBERT
AOKI | HARUKA | ANAA
APPLEBAUM | TAMAR | SARA LEAH
ARFSTEN-ROMBERG | URSULA
ARITA | KEIZO
ARMBRUSTER | MAXIME | JOHN WORTH
ARMSTRONG | JANA | ANJULI MORRELL
ARMSTRONG | SALLY | MARIE
ARMSTRONG | THOMAS | VALENTINE
ARNAOUT | ALI | M
ARRIETA RUIZ | MARILENE
ARSCOTT | RAMON | DION BOYD
ASPINALL | JILLIAN | MARY
ASSBERGER | JUDITH | MONIKA
ASTWOOD | SHARON | GUBBELS
AU | YEUNG
AUCLAIR | SHELLI | DIAN
AYRES | BYRDIE | DARDEN
BACH | CHRISTINA
BACSFALVI | KLARA | HAJNALKA
BADGER | GARY | ANDREW
BADR | MAYSSA | HELEN
BAJPAI | SAURABH
BAKER | DEBBIE | ANN
BAKER | MARTIN | GEOFFREY
BALDUCCHI | BENJAMIN | CHRITPHE
BALDWIN | DEBORAH | ROSEMARY
BARBIR | SHIHO | HARADA
BARCLAY | JOHN | DAVID
BARDY WALKER | PATRICIA | CAROLYN
BAREAU | OLIVER
BARKLEY | JANET | L
BARLOW | DAVID | SIMPSON
BARNES | CHRISTIAN | LEE
BARNES | JOANNA | ELIZABETH
BARROS | JOSEFINA | W
BATCHRA | NANDITA
BAUMANN KOCHEISEN | KARIN
BEACH | FREDERIC | WILLIAM
BECK | MARKUS | MICHAEL
BECKER | ANDREW | PATRICK
BECKER | HOLLY | CLAIRE
BEERENS | MARIA | JOHANNE
BEHBEHANI | ESSA | ABDULLA
BEHM | AUDRONE
BELFIELD-KENNEDY | REBECCA | MARION
BELINELLI | MARCO | STEFANO
BELL | DIANE | ELAINE
BENKART | SILVIA | CHRISTINA
BENKART | STEFAN | OLIVER
BENNETT | HUDDIE | ANN
BENNETT | STEPHEN | G
BERCU | MARIE-FRANCE CHARLOTTE | SUZANNE PAPILLON
BERGSTEIN | GERI | MERLE
BERGU | NELU
BERNAY | ROSS | STACY
BERSANI | PETER | EDWARD
BESMEHN | BRIGITTE
BESSELL | MICHAEL | JOHN
BIANCHI | MARIA-IGNACIA
BIANCHI | NICOLAS
BIANCHI | THOMAS
BIEGER | JOAN | ANN
BIGWOOD | WILLIAM | WATKINS
BINFET | MATTHEW | JAY
BINGHAM | ANGUS | GORDON
BIRCH | BECKY | ANN
BIRCH | JOANNE | LYNN
BIRCH | SIMON | JAMES
BIRD | ANTONY | IAN
BIRDLING | WILLIAM | JOHN
BIRMAN | JACK | M
BISHOP | JUDITH | MARY
BISLEY | SPENCER
BLAKE | LOGAN | R
BLASS | THOMAS
BLITZER | DAVID | JEFFREY
BLUEM | GERHARD | HEINRICH
BOBBIN | AMANDA | FIONA
BONDY | ANNE | ELIZABETH
BONGERS | AMY | ZELLIA
BORYSENKO | MICHAEL | IVAN
BORYSENKO | TARA | CATHERINE
BOUDREAU | CAROL | ANN
BOULANGER | LOUIS-NICOLAS
BOWEN | TRACEY | WINTER
BOWER | JOHN | WILLIAM
BOWERS | HARRIET | LOUISE
BOWERS | PETER | JOSEPH
BOWLEN JR | WILLIAM | ALEXANDER
BRADBURY | CHRISTOPHER | JOHN
BREMNESS | ANDREW | BAWDEN
BRENNAN | TANIA | MARGARET
BREWER | GARY | ARTHUR
BRIEDIS | DALIUS | JOUZAS
BRIGGS | JOHN | ANDREW
BRODHEAD | MARY | VIRGINIA
BROPHY | JAMES | THOMS
BROWN | PETER | MACDONALD
BROWNE | DAMIAN | JOHN
BROWNLEE | JAMES | ROSS
BRYAN | BARBARA | C
BRYAN | GEORGIA | A
BUCHI | CONRADIN
BUCK | BELINDA | K
BUDASHEWITZ | SAYAKA
BUGNION | JACQUELINE | BROWNE
BURNETT | ADAM | LESLIE JOHN
BURNS | ALASTAIR | JAMES
BUSBY | STUART | LEE
BUSCH-PETERSEN | MARGRETHE
BUTTRICK | MICHAEL | SAMUEL
BYRNE | JOAN | LOUISE
BYRNE | KENNETH | FRANCIS
CACCHIONE | CHRISTINE | FRANCES
CAHALAN | DANYA | T
CAHALAN | JESSE | DANIEL
CAHALAN | PATRICIA
CALIL | JOAO | MIGUEL AMENDOLA
CALLAN | BARBARA | ANNE
CALLINICOS | ANNEMARIE | C
CAMBEROS | HECTOR | ROMUALDO
CAMILLERI | WILLIAM | FISHER
CAMPBELL | MICHAEL | ANDREW
CAMPERT-SPELMAN | DEBORAH | P
CANTIN-LANGLOIS | SARAH
CAO | YABO
CAPPER | PAUL | JONATHAN
CARAWAN-HUBIN | NOEL | LEE
CARCHEDI | JULIETTE
CARNEY III | JAMES | HENRY
CARNRITE | TED | S
CAROTHERS | MICHELLE | LOVRETTA
CARPENTER | SHEILA | MARIE
CARPENTER | THEODORE | PERCY
CARS | ANN | M
CARSON | JAMES | PATRICK
CARTER | KEITH | BARRETT
CARTY | M BRIAN | WILLIAM
CASEY | ASHLEY | JANE
CASEY | KYLIE | ANN
CASTILLEJO | ROBI LEXEME | T
CASTRITIUS | CELINE | DESIREE
CATALANOTTO | THOMAS | James
CATHIE | ESTHER | ANNETTE KEEF
CAVANAGH | PATRICK | P
CEHA | HELEEN | MARGRIET
CERNY | MILENA
CERYCH | YVETTE | MADELON
CHAN | CECIL | TAT CHEONG
CHAN | MADELEINE | SY
CHAN | SOPHIA | SAU FONG
CHAN | WAI | YIN
CHAN | WING-KUEN
CHANG | CHUAN-TIEN
CHANG | SHIN | YOUNG
CHANG | SHIN-JU | D
CHARLES | LAURA | ANNE
CHARNLEY | MICHAEL | JOHAN
CHATTERTON | MICHAEL | ROBERT
CHAVALITTUMRONG | TRIN
CHEETHAM | GENEVIEVE | MARY
CHEN | HELEN | YI-HWA
CHEN | HENRY | TAI-HENG
CHEN | JAN | KU
CHEN | MENG | HSIEN
CHEN | WILLEEN
CHEN | XIAOLING
CHEN | YING-CHEN
CHENG | ALVIN | KAWAY
CHENG | CHUN | HO
CHENG | YU | CHEUNG
CHERRY | ALEXANDRA | L
CHEW | SERENE | SUE WAH
CHI | KOW | MEI
CHIANG | CHIH-FENG
CHICHI | FRANCESCA | A
CHICUREL CORREA | MARIA | LAURA
CHIKAMATSU | MIYUKI
CHILIP | CHERINA | LUK
CHILTON | SKYE | ALEXANDER
CHO | FIONA | HWAN HUI
CHO | WILLIAM | KI CHUL
CHOI | JI | SUN
CHON | SONG | CHOL
CHOW | EMILY | HWAY JOAN
CHRISTIAN | CHASE | BLAIR
CHRISTIANSEN | GERRITT
CHU | PATRICK | MING
CHU | YOUNG | KWANG
CLARK | HEIDRUN | E
CLARK | JONATHON | ANDREW
CLARK | NICHOLAS | ANTHONY
CLARKE | PETER | WILLIAM
CLARKE-SMITHEMAN | RACHEL | MARY
CLINGMAN | DAVID | ARTHUR
COMER | NICHOLAS | JAMES
CONTRADA | PETRA | HILDEGARD
CONVERS | PHILIPPE | PAUL FREDERIC
CONVERY | KAREN | FRANCES
CONWAY | ANDREW | GRAHAM
CONWAY | MARTIN
COOK | JUDITH | ANN
COOKE | GRAHAM | CHRISTOPHER
COOMBES | DAVID |
COOMBES | TERRENCE | LEONARD
COONEY | JOHN | ANDREW
COOPER | ADELE | JOANNA
COOPER | RENA | HENRI
COSTELLO | DANIELLE | NICOLE
COTREAN | CEZAR | DUMITRU
CREIGHTON | KIERA | MORGANNA CHAYTORS
CROIN | LAURA
CRONE | DAVID | CARL
CROWLEY | KEVIN | MATTHEW
CROXFORD | ELIZABETH | JANE
CUDD | THOMAS | VINCENT
CULBERT | ROBERT | ALLEN
CULLEN | EMMA | MARIA
CUSHMAN | AMEY | DEXTER
DAEPPEN | PAULA | JEAN
DAIGNEAULT | FRANCINE | DOROTHY
DAITZ | LAURA | ROSS
DALES | RICHARD | DOUGLAS
D'ALESSANDRO | EDUARDO | E
DAMAPONG | KHEMWIKA
DAMIBA | DAVID | EMILE
DAMOISEAUX | JOLENE | SASKIA
DAMOISEAUX WOUTERS | KATINKA | AGNES
DANIELI | VALENTINA | FRANCESCA
DANOWSKI | JANE | SPENCER
DARBYSHIRE | JOHN | FREDERICK
DAVIET | JEAN | FRANCOIS MICHEL
DAVIS | BENJAMIN | JAMES
DAVIS | NOELLE | LEE
DAVISON | JEFFREY | SPENCER
DAY | ANNE | ROBERG
DE BURLET | DIANE | MARIE CHRISTINE
DE CORDES | AUGUSTIN | PATRICK
DE LA RICA | MARTA | M
DE LU | KATIA | GRACE
DE MELIO | KAREN
DE URIBE BEJARANO | MARIA | P
DE VOS | BAUKJE
DE ZOETE | WILLEM | GERARD
DEACON | ROBIN | MARK
DEACON | STEPHEN | RONALD
DEAN | CATHERINE | JEANNE
DEAN | MARCELLA | E
DELAHAYE | OLIVIER | PIERRE CHRISTOPHE
DELAPERCHE-WALKER | HELENE | BERNADETTE
DEMILLE | RODGER | THOMAS
DENNING | WENDY | ELIZABETH
DENNY | SHELIA | A
DEPENBROCK-KRAMME | ISABELLE
DEPIERRE SOTIN | BRIGITTE | ISABELLE
DESSORT | HELMUT | LUDWIG
DETWILLER | HILARY | RACHAEL
DETWILLER, JR | DENNIS | PETER
DEZIEL | DEBRA | IVA
DHAR | JYOTI |
DIAZ | MONICA | DANIELA
DIBBEN | CHRISTOPHER | DAVID GRAHAM
DIEJOMAOH | DAFE
DINIZ | PEDRO | C
DINNIS | SANDRA | GAY
DITTRICH | MARCO
DOBLER | TOBIAS | KLAUS
DOBSON | THERESA | ANN
DODD | FAITH |
DOEGLAS | MARCUS | HENDRIK
DOHM | FAITH | ANNE
DOLAN | ANNLEE | ELIZABETH
DOOLHOF | MANOUK | NANETTE
D'ORANTE | JAMES | DONALD
DOUGHTY | MARY | SUSANNE
DOUGLAS | ANGELA | DAWN
DOWN | PETER | J.
DOWN | PETER | J.
DOYLE | PAULA | ANNE
DOYLE | RICHARD | STANLEY
DRESSI | PAOLA | MARIA
DROLET | JEAN | JACQUES PHILIPPE
DUC | JULIE |
DUC | SEBASTIEN | NICOLAS
DUCHESNAY | PAUL | HENRI
DUINA | ALESSANDRO | ANGELO
DUNCAN | ROBERT | WAYNE
DUNNEBIER | ERWIN | ALEXANDER
DURANTON | PHILIPPE | MARCEL
DUVAL-EPSTEIN | MARIE | CHRISTINE
EARLY | MARION | ANNE
EBERLE | PATRICIA | JANE
ECKENFELS | TIMOTHY | LEE
EFENDOV | THERESA | ANNE
EGGERS | SUSANNE | RUTH
EGLER | DIETER | RUDOLF
EGLER | JUTTA | MARIE
EHLERS | NORA | ELINOR
EIDEL | OLIVER | KHENG HERMANN
EK | EILEEN | MAY
EK | MARVIN | RAYMOND
ELDRIDGE | SHEILA | CATHERINE
ELLIS | JANE | ANNE
ELLMAN | EVA | MONIKA
EMEL | ERIC | JOHN
ENGELHARD | MARK
ENGSTROM | BRADLEY | M
ENNIS | NANCY | SUSAN
ENSSLIN | SIMONE | DENISE
EPSTEIN | JOHANN | GORDON
ERDMANN-JONSSON | KRISTEN | ELENA
ERNEST | ANDREW | MONROE
ERNST | NANCY | CATHERINE
ESCALANTE HULSE | ROBERTO | L
ESCHBACH | SONJA | MARIE
ETO | KAORI
EVANS | KENNETH | W
EYCKMANS | MONIQUE | JOHANNA MARIA
EZION | ORLY | M
FABRITIUS | ANDREAS | MORITZ
FAHEY | SIMONE | DENISE SUKOSHI
FAIR | NITA | KATHLEEN
FALLENTIN | NILS |
FANG | PAMELA | JIA JUN
FANG | XUEMIN | MIN
FATIMA | TASHBIH
FAUDON | PATRICK | MICHAEL ERICH
FAY | KRISSA | ELAINE
FELDSTEIN | BARBARA | CLAIRE
FELKER | EMILY | ROSE
FENNEFORE | MARIE | KATHERINE
FERGUSON | ELIZABETH | CLARE
FERGUSON | LINDA | LOUISE
FERME | MAGGY | MARIE MONIQUE
FERRIS | WILLIAM | WESLEY
FERRO | ROBERTO | GIOVANNI
FICHERT | MICHAEL
FIELDING | LAURIE | LOUISE
FIFIELD | ANNA | LOUISE
FIGUEIREDO | ANTHONY | JESUS
FIORE WALDER | GINA | A
FIRKINS | JENNIFER | LAUREN
FISCHER | SHIRLEY | SUSANNA
FISCUS | JAMES | DONALD
FISCUS | TROY | DONALD EARL
FISHER | LAURA | WILSON
FITT | ELIZABETH | ANNE
FITZPATRICK | REBECCA | BEEN
FJELDSTAD | HEIDI | ELISABETH
FLANAGAN | LAUREL | EILEEN ALISSA
FLANDERS | SUZAN | T
FLOYD | ERIC | KEITH
FLUET | IVAN | ALBERT
FOKKEMA | MARGARET | JENNIE
FOLLOWS | JOSEPH | FREDERICK
FORAKER | JAY
FORD | CHRISTOPHER | D
FORD | WILLIAM | CHARLES
FORNER | MALIA | CHALISE
FORRESTER | HAYDEN | DOUGLAS
FORSSEN | ING MARIE
FOSTER | BRIAN | HUGH
FOSTER | CAROL | ANN
FOSTER | MARILYN | JOAN
FOSTER | RICHARD | IAN
FOWERAKER | JEAN
FOWERAKER | RALPH | STEPHEN
FOX | IAN | TREVOR
FRANCIS-BRUCE | SASSICA | ESMERALDA
FRANK | LEONIE | WENHAM
FRANK | TYMOTHY | FREDERICK
FRANZEN | LAURA
FRASA-ODOK | SELMA | DENIZ
FRASER | MARIA | S
FRATINI | ALEJANDRO
FRENGLEY | INGA | JANE
FREY | LUCAS | MARTIN
FRIED | MARIETTA |
FROISSARDEY | ARIANE | CYNTHIA
FU | RUNQI
FUJIMURA | MICHIO
FUJIMURA | MINO
FUKAWA | KEVIN | SHOJI
FUNG | DAVID | KINMING
FUNG | MONICA | MUN SIN
FURUYA | NANASE
FURUYA | YUKI
GAERTMER | BARBARA | BROWN
GAIA | CHIARA
GAILIUNAS | VICTOR | STUART
GAL | ILDIKO
GALLAGHER | KIKUKA | TAKATSUKI
GALLANT | ANDREW | DAVID
GALLANT | THERESA | MARIE
GAMBIN | LEONARD | MICHAEL
GAMBLE | JACQUELYN | DEE
GAMSGAARD | JANE | ELIZABETH DONOVAN
GANDHI | PRIYANKA | MAHENDRA
GANT | MARY | JODENE
GARCELON | KYLIE | ANNE
GARNAUT | DEBBIE | JEANETTE
GARNAUT | GLENN | JOHN
GARNEAU | ADRIEN | BRAUN
GARNEAU | GEORGE | XAVIER
GATTON | ROBERT | JEFFREY
GEKOSKI | RICHARD | ABRAHAM
GENECHESI | NICOLAS
GENTILE | CORALIA | ZI-MEI
GENTILE | MATTEO
GERIN | HENRY | MARIE YVES
GERSTER | LUKAS | PASCAL
GERVAIS | DENNIS | HECTOR
GHEMENT | ISABELLA | RODICA
GHERT-ZAND | RENEE
GIBSON | ANNIKA | ERMA
GIBSON | JENNIFER | MARIE
GIBSON | YLVA | MARGARETHA
GILBERT | JACQUELINE | MARIE
GILBERT-RAMIREZ | KARIN | MARIA
GILLIAM | HARRY | THUNDER
GILMAN | CAROLE | SUE
GIVEN | GEORGE | EDWARD
GLASSMAN | EDWARDS | JAY
GLICKMAN | MARIKA | KRISTINA
GLOVER | TODD
GLUHAK | JOSEPHINE | MARY
GOBLET D'ALVIELLA | RICHARD | AIME PATRICK
GOETZINGER | DONNA | CLARE
GOLDSTEIN | RONALD | STEVEN
GONSALVES | EVELYN | SADIE
GONZALEZ | ANA | MARIA
GONZALEZ | LINDA | JEAN
GORDON | JOHN | BERNARD
GORE | DHANANJAY | ASHOK
GORE | SUJATA | DHANANJAY
GORLIER | PATRICIA | ANNE O'CONNOR
GOSSCHALK | ANNETTE | LOUISE
GOSSELIN | MARIE | CLAUDE
GOTO | CHIYOMI
GOULD | LLOYD | ROBERT
GOWAN | KIYOMI | AKA REYNOLDS
GRACE | JOHN | S
GRAFF | LORI | D
GRAHAME-CLARKE | JACKIE | ALLYSON
GRANT | MARY | DARLENE
GRANT | WILLIAM | SCOTT
GRASSI | JOSEPH | DAVID
GREAVES | MATTHEW | ANTHONY
GREEN | DAINA | Z
GREEN | MICHAEL | CHARLES
GREEN | PAUL | EDWARD DONALD
GREEN | RICHARD | MICHAEL
GREENBERG | PAUL | CLARK
GREGOIRE | CLAIRE | ANNE
GREGOR | CHERIE | ANNE
GREGORY | ISABELLE | SHELLEY
GRIEBEL | CYRIL
GRIFFITHS | KIMBERLY | ANN
GRIFFITHS | NINA | MARIA
GROSS | ALEXANDRA | MARGARET
GROVE | ADAM | JOSEPH
GRUBB | LISA | MARIE
GRUEN | GILLIAN | BEA
GRUENSTEIN | DAVID | MICHEL
GRUNAU | MARA
GRUNAUER | LUIS | EDUARDO
GRYC | ANDREW | JAMES
GU | JUNLIN
GUAN | HONGBING
GUEHR | MARKUS
GUENTER | CHRISTINE | JOY
GUJRAL | RAGNINI
GUJRAL | VISHAL
GUNKELMAN IV | RALPH | FRANK
GUO | LIYUN
GUO | YUNYAN
GUPTA | RAJAT
GURNEY | LAVERNE
GUSTAFSSON | KATARINA | BIRGITTA
GUTH | SHAUNA | ALEXIS
HAAC | VICTORIA | SUZANNE
HABING | MARTY | ARNOUT
HACKER | JOSEPH | SAMUEL
HAGEN | JAMES | WARREN
HAGGREN-ARKOMA | ELISA | HELI KRISTINA
HAGHIGHI | HOMAN
HALL | JAMES | PERCIVAL
HALLE | ROBIN
HALLIN | BENTE | REBECCA
HALMINEN | LISA | ANN
HALSEY | KERI | SUZANNE
HAMBLIN | PETER | NORMAN
HAMILTON | HUGO | ADOLF
HAMILTON | SAHNI
HAMMANT | PAUL | J
HAMMER | PAUL | FORRESTER
HAMMOND | TIMOTHY | READ
HANFORD | CAITLIN
HANN DE | MICHA | RENE
HANNA | NICHOLAS | JOSEPH
HANSEN | PATRICK | DUFORT KRISSOPON
HARALLAMBI | DAWN | LOUISE
HARDIN | CHRISTIAN | ALEXANDER
HARMEIER | STEPHANIE | JAN
HARMEL | MARTINE | MARIE-CLAUDE
HARRIS | REBECCA | EVE
HART | ANNE | SIOBHAN
HARTZELL | ANDREW | (none)
HAUSER | ANDREA | ELSA
HAUSTED | KAROLINE | NEERGAARD
HAWAWINI | ALFRED |
HAWKINS | MICHELE | DENIS
HEEMSKERK | MICHAEL | GERARDUS
HEESE | MARLON | FORREST
HEIMBUCHER | THOMAS | WALTER
HEIN | RUBY | IRENE
HEMMINGSEN | ROBIN | ANN
HEMPHILL | JOHN | ERIK SMITH
HENDERSON (ZELLER) | LINDA | JEAN
HENDLER | SHANE | SOPHIE
HENDLER | MAYA | SHEIN
HENEY | RUTH
HENNIGHAUSEN | HARTWIG
HERRMANN | BENJAMIN
HERTEL | THOMAS | JAMES HASCAL
HEUSSER | ANDREA | CHRISTIAN
HEZKY | ZDENEK | DANIEL
HICKLI | ALISON | HOPE
HILL | ANTHONY | L
HILL | JAMES | CLARENCE
HILL | ROBERT | JOE
HILL | WENDY | E
HILLYER | KEITH | D
HINCHCLIFF | DANIEL | LUKE
HINDS | ANJA
HIRAMA | KOICHI
HIRAMA | MAKIKO
HIRASE | HIDEHIRO
HIRASE | YURIKA
HLADY | PAULA | MARIE
HO | GEORGE | YU SHU
HO | KAREN | SU SAN
HOBBS | JULIAN | L
HOBSON | ROBERTA | ANNE
HOBY | INGER
HOCHSTRASSER | ANNIE
HODGSON | CHRISTOPHER | JAMES
HODOWANY | JUDY | CHEN
HOEDEMAKER | SALLY | BROOKS
HOENIG | NINA
HOGAN | BARBARA | JEAN
HOGAN | MICHAEL | SEAMUS NIALL
HOLBROOK | ANDREW | TODD LOUIS
HOLLAND | MARK | ANDREW
HOLMES | JOHN | CARL
HOLMES | KATHLEEN | ELIZABETH
HOLST | KAREN | VIRGINIA
HOLTZ | SUSAN | SLOAN
HOMAN | NANCY | LEE
HONG | HAOJIAN
HONG | HAOWEI
HOOPER | MARY | SUZANNE WOODMAN
HOOPER | MICHAEL | C
HORNBY | JONATHAN | MARK
HORNE | JOHN | ROBERT
HORNE | SIMON | CHRISTOPHER
HORNSBY | MARIE | EDNA
HORSTER | SOPHIA | FLORINA
HORTH | THERESE | MARIE
HOSONO | LOUIS | YOSHIYUKI
HOUGHTON | MICHAEL | ELSON
HOUSTON | JANET | CONSTANCE
HOWSON | ALISON | CLARE
HOYNE | PAUL | REARDON
HSU | LIHSUN | HSUN
HSU | WENSHEN | SHEN
HSU | YUNGHAN | HAN
HU | FAYE | OY
HU | HSI | CHAO
HUANG | KATRINA PAO-FONG | YEH
HUBBARD | SARAH | L.
HUEBNER | MICHAEL | WALTER
HUGHES | EMILY | GWYNETH
HUMENIUK | LINDA | ALICE
HUNT | SHANNON | ROBERT
HUNTINGTON | AMY | ELIZABETTH
HUNWARDSEN | CARMEN | ANN
HUSSELMAN | DIRK
HUTCHINSON | DAVID | LYNDON
HUXLEY | LIAM | Y
HYDE | NEIL | MANSLEY
HYDE | SHARON | MYRA
HYDE | THOMAS | NEIL
HYNDMAN | MARC | GABRIEL
ICHIKI | KOICHI
IKEDA | KAYOKO
IMBACH | FRANCESCA | NATASCHA
INGLE | NILESH | PANDHARINATH
INSKEEP | HAYLEY | JONELL
ISHIKAWA | SACHIKO
ISHIKAWA | YUKARI
ISRAEL | MICHEL | EDUARD
ITAKURA | DAISUKE
ITAKURA | TAKAKO
IYER | MAHALAKSHMI | SUNDARAM
JAMES | MARK | DICK
JAQUES-DALCROZE | ERIC | EMILE
JASPER | DALLAS | MARIE
JAY | PAULETTE | ANN
JAYAL | ALAIN
JECKELMANN | DANIELLE | SARAH
JEEKEL | ROBERT | JOHANNES
JEFFERSON | ELIZABETH | HOPE
JEFFERSON | GILLIAN | CORA
JEMETZ | ALEXANDER
JENSEN | BRIANE | BINGHAM
JENSEN | CLINTON | LEE
JENSEN | KIMBERLEY | IRENE
JI | CONGHUI
JIANCHENG | ZHOA
JIAO | YUCHEN
JOFFE | ANDREW
JOHNSEN | ERIK | L
JOHNSON | ANNE | E
JOHNSON | JAMES | DUNCAN
JOHNSON | KEVIN | MICHAEL
JOHNSON | TIMOTHY | ARTHUR
JOHNSON-REISER | SABINE | ULRIKE
JOHNSTON | ROBERT | LEO
JOHNSTON | STEPHEN | DAVID
JONES | ANDREA | MARGARET IRENE
JONES | DIANE | DEIRDRE
JONES | ROBERT | ALEXANDER
JONES | RONALD | EMORY
JONES | WILLIAM | LAWRENCE
JONES | ROSALIND | NANCY
JOURDEN | CHRISTINE | DIANNE
JUNG | JASMINE | LAURA
KADATZ | DOUGLAS | DONALD
KADATZ | STEVEN | LAWRENCE
KALANTAR | LOUISE | EMILY
KALE | HRISHIKESH | ARWIND
KANATA | TAMIE
KANDASAMY | TASHEN | G
KANDASAMY | TASHEN | GAJAN
KANEB | ELAINE | KATHERINE
KANOST | HAROLD | S
KARAGEORGEVIC | ELIZABETH
KARASANTI | MOSHE
KARLSEN | JONATHAN | EIVIND
KAROLY | JEFFREY | LASZLO
KARREN | DANIEL | JOSEPH
KASPER | ROMAN | MARCUS
KASSOUF | WASSIM
KATHNER | ROBERT | JOHN
KAY | WILLIAM | JOHN
KEAST | MELANIE | MARGARET ENG
KELLEY | KEVIN | THOMAS
KELLY RABOLT | SHERI | LOUISE
KEMPLEMANN | GLORIA | EVA MARIE-LUISE
KENDALL | YASMIN | SERENA
KENNEDY | SIMON | PETER
KEW | ANTONI | JASON
KEYOWSKI | STEPHANIE | CLAIRE
KHETAN | MANISHA | AMIT
KIDO | TAKEO
KIKUCHI | MIKA
KILLEN | CATHERINE | PATTERSON
KILPATRICK | SONYA | FIELDING
KIM | JENNIFER | YOON
KIM | MYUNG | SOO
KIM | JUNG | A
KINDL | HEINZ | R
KING | NANCY | JEAN
KIRKPATRICK | MARIAN | VERA
KIZILBASH | SAMI | MOHAMMAD MIRZA
KLEIN | FLORIAN | BENEDICT MICHAEL
KLOVAN | DOROTHY | ANN
KLUIVERS | ASTRID | MARIANNE WILELMINE
KNAPP | HELMUT | FREDERICK
KNIGHT | JACQUELINE | EDITH
KNOFLACH | GEORG | PETER
KNUCHEL | BEAT
KNUCHEL | RENATE
KOBAYASHI | MAKIKO
KOCHEISEN | MICHAEL | K
KOCHENDOERFER | ANDREA | SABINE
KOESTLBAUER | JOHANNA | EILEE
KOIZUMI | TAKASHIGE
KOLODZIEJ | RONALD | JOHN
KONISHI | YURIKO
KONST | CLARE | NICOLA RIANIN
KORNELL | DANIELLE | DEBRA
KORNHABER | MARC | SHAWN
KOTTMAN | STEFANIE | LYDIA
KOUDIJS | PETER | ARIE ELIZA
KOZMINSKI | ANNA | EWA
KOZUMA | TSUGMI
KRAFT | BIRGIT
KRANTZ | JULIANE
KRENTZ | LEIGH | ANN PAYTON
KREUTZ | INGE | LUISE
KRISTAL | ZUNO
KRISTIANSEN | PER | ERIK
KRISTJANSDOTTIR | EVA | OSK
KROEKER | GRACE | LINETTE
KRUSE | MARSHA | ANNE
KRUSE | PETER | ANDREW
KUKAR | MILENCA
KUMAUCHI | ITSUKI
KURASHINA | ATSUSHI
KUROIWA | FUYUKI
KVAJIC | DRAGANA | CAROLYN
KWAN | NORMAN
KWON | HEE | JAE
LACHANCE | PAUL | DAVID
LAFORTUNE | RACHEL | ANNE
LAI | ALAN | YEH CHIEN
LAI | SZU | YING
LAMSVELT | VANESSA | LUVONNE
LANDBERG | THOMAS | STURE
LANDRY | KATHERINE | M
LANGLEY | BRIAN
LARKIN | MICHELLE | ANNE
LASSNER | ERIK | JOHNSON
LATHOP | FELICITY | ANN
LATOUR | MARC | THOMAS
LAUER | ANN | MARIE
LAVIGNE | GINETTE | MARIE
LAVIOLETTE | DIANE | ADELE
LAWSON | ELIZABETH | ANNE
LAWSON | JENNIFER | ANNE
LAWSON | MARYANN
LAWSON | TODD | ALEXANDER
LAWTHER | DEBORAH | LOFT RODMAN
LAYCOCK | DEBORAH | MARIA
LAZARUS | SARAH
LAZZARO | PIER-GINO | MARIO
LAZZARONI | MARIO
LAZZER | BARRY | N
LAZZER | VIOLA | HAZEL
LECOMPTE | ALAIN
LEE | EUN | JU
LEE | JAEHWAN
LEE | KELLY | MARIE
LEE | KWAN | WOONG
LEE | KWANG
LEE | MINJAE
LEE | SEUNG | WHAN
LEE | SEUNGGEUN
LEE | SUSAN | K
LEECH | SUSAN | M
LEGER | MELANIE | JOY
LEIBIL | PATRICIA | MARY
LENDERS | ACHIM
LENKINSKI | ROBERT | BEREK
LENKINSKI | YAEL | AMIT
LEONE | FRANCESCO
LESLIE | HUGH | STUART
LESZAI | NICK
LEURS | PETER | FOP
LEVEY SCHORP | JESSICA | BINAH
LEVITT | JOSEPH | FARREL
LI | BING
LI | BIRGITTA | YAN WING
LIANG | LYDIA | YINYE
LIGHAAM | PATRICK | EDWIN
LIM | MUI HUAN | ELAINE
LIM | SENG | MING
LIM-KONG | CLAIRE | KUON YOON
LIN | ALEXANDER
LIN | CHUN | HAN
LIN | FUMIKO | FLORENCE
LISCHAK | LISA | M
LIVESEY | KAREN | L
LLOYD | CAROLINE | MAY
LO | ROXANE
LOCKHART | MARC | RICHARD
LOH | VICTORIA | ALLISON
LOMBARD | VINCENT | C
LOURGOUILLOUX | DOMINIQUE |
LOW | BEVERLY | LAY HONG
LUBAVIN | LIAT
LUCARONI | EDWARD | J
LUCAS | KERRY | ANNE
LUCHSINGER | JUERG | THOMAS
LUK | FRANK | HO WAH
LUSCOMBE | DOMINICA | ELLEN
LUTRARIO | CHRISTOPHER | ROBERT
LYONS | SUZANNE | MARIE SHAW
MA | AO
MA | HUNG | MAN
MAASLAND | MILDRED | NELL
MACDERMOTT | KAREN | LENOIR
MACDONALD | SCOTTI | RAE
MACDONALD | TODD | KINGLEY
MACGILLIVRAY | MICHELLE | CHRISTINE
MACGREGOR | ANDERS | JAMES GRIERSON
MACLENNAN | LAURIE | M
MADDEN | BRIAN | JAMES
MADSEN | MADS | GLEERUP
MAGEE | JILL | WEBB
MAGNEE | OCTAVE | ROBERT JACQUES MARIE
MAGYAR | JEFFREY | HAN
MAHER | DENISE | CHRISTINE
MAHONY | ISABEL | A.
MAKIN | CAMERON | LLEWELLYN
MALCOLM | ROSEMARY | J
MALIK | STEPHANIE | ANN
MALINGE | JEAN | LOUIS
MANCHISI | MARIA JOSEPHINE
MANT | MERRILL
MAPSON | GEORGE | KEMP
MARCINA | DIANE
MARK | NICHOLAS | PETER
MARLOW | CATHLEEN | MAEBETH
MAROUN | PIERRE-GEORGES
MARRIAGE | BARBARA | JEAN
MARRIOTT | PHILIPPA | CATHERINE
MARSHALL | ELIZABETH | ANN
MARSHALL | KEVIN
MARTIN | CHRISTOPHER | D
MARTIN | TIMOTHY | JOHN
MASSELINK | SEBASTIAAN | JOHANNES FREDERIK
MASSICOTTE-VEZEAU | RENEE
MATSUOKA | KYOKO
MATTHEWS | JORDAN | PATRICK
MATTHIJSSEN | JEANNETTE | CHRISTINE
MAURITZ | ERIK | MICHIEL
MAUSER | MATHIEU | XAVIER
MAYER | CAROLYN | MARGARET
MAYRHOFER | JULIA | VERENA
MCCLEMENT | JAY | DAVID
MCCLEMENT | LESLEY | ANNE
MCCUTCHEON | MARINA | CORWEN
MCDONALD | WENDY | CAROL
MCDONALD | YOLANDE | ELIZABETH
MCILVENNY | JAMES | DAVID
MCINNES | ALAN | ALEXANDER
MCINNES | SUSAN | FRANCES
MCKELLIN | ELEANOR | CARRIE
MCKELLIN | KAREN | RACHEL
MCKELLIN | WILLIAM | HUGH
MCLINTOCK | JAYNE | BARBARA
MCMAHON | PATRICIA
MELLOR | FARRIS | S
MENDE | FAINE | DELWYN
MERA | HISAKO
MERCER | STEVEN | HOWARD
MERCER | TERESA | MARGARET
MEREL | PETER | A
MERGEAY | SARAH-MARIE
METAXAS | VICTORIA | ELIZABETH
METZ | ARLENE | MARIE
MEULEMA | KARL | HEINZ
MEURRENS | CELESTE | C M
MEURRENS | FABIENNE | ANDREE MYRIAM
MEURRENS | FLEUR | E L
MEYBAUM | HARDI
MEYBAUM | LANA
MEYER | BRIGITTE
MEYER | DANIEL | Alexander
MIDDLETON | CHRISTINE | ANN
MIELCAREK | BEATA | I
MILKAITIS | PAUL | THOMAS
MILLER | LYNDA | W
MILLIKEN | DANIEL | SCOTT
MILNE | JENNIFER | DENISE
MILNER | KEVIN | ALBERT JOSEPH
MILVERTON | SYLVIE | FRANCOISE
MITCHELL | CHRISTINE | L
MITCHELL | KEITH | ANDREW
MIYASAKA | YOSHIE
MOBASSER | ZOHREH
MODI | NEEHAR | REJESH
MOE | TIMOTHY | H
MOHAN | SREEJIT
MOL | MARIJE | JENNIFER
MOLLOY | RYAN
MONARDO FULLER | SHERYL | DIANNE
MONETTA | ANGELA | MARIA
MONK | MICHAEL | FREDERICK
MONTALI | JASON | OLIVER
MONTIRONI | MAURIZIO | FAUSTO
MOODYCLIFFE | OLIVIA | MARGARET THERESE
MOORE | RYAN
MOORE | SIMON | JEREMY
MORAN | MARY | CATHERINE
MORAWITZ | DELEAH | LYN REBORSE
MOREAU | SARAH | SUZANNE CAMPBELL
MOREY | DONALD | ALLEN
MOREY | KEVIN | CHRISTOPHER
MOREY | TREVOR | STACEY
MORIGUCHI | KAUYOSHI
MORIGUCHI | MICHIKO
MORIN | CHRISTEL | EVA SIMONE
MORISSET | PIERRE | ANTONIO JULIEN
MORISSETTE | FRANCOIS | PETER
MORLEY | JAMES | CHRISTOPHER
MOROZOVA | TATYANA
MUKAMWEZI-JOYAL | MARIE
MULCHANDANI | SIDDHARTH | J
MULVENNA | CHARLES | JOSEPH
MUNOZ ALVARES | MARIA | CAROLINA
MUNRO | JAMES | LEE
MURAI | KIYOKO
MURAI | TOSHIAKI
MURAOKA | AKIRA
MURAOKA | MUTSUKO
MURPHY | ERIN | LOU ANNE
MURPHY | ERIN LOU ANNE
MURRELL | KALI | FANNING
MURSIC | ZACHARY | ALLEN
MUSHENKO | CHRISTIAN | MICHAEL
MUSSLEWHITE | LAWAYNE | J
NAGAMORI | CHISATO
NAICKER | PRAVIN
NAKAGAWA | JUNKO
NAKAHARA | SANAE
NAKAOKA | HIROSHI
NAKAOKA | YUKA
NANTAIS | RAYMOND | JOSEPH
NAOUM | SAMER | SALAM
NASH | JUSTIN | JAMES HARVEY
NASH | KATHERINE | TIMBURY
NASH | MARY | THEKLA
NAVON | ROY
NEAVE | EDWIN | HAROLD
NEBE | PATRICIA | SANDRA
NEIDHART | LUKAS | EMMANUEL
NEMEC | MARTIN
NEUFELD | MARGARET | RACHEL MCKELLIN
NEUMAN | JOSHUA | GREGORY
NEUMANN | KENNETH | JOHN
NEWLANDS | JOHN | BUSHELL
NEWTON | HEIDE | NARRELL
NEWTON | LINDSAY | JANE
NEZU | NOBUYUKI
NG | THOMAS | K
NGUYEN | OANH | HOANG
NICCOLS | LUKE | LLOYD CAMERON
NIELSON | DAVID | JOHN
NIEUWEWEME | BAS | CHRISTIAN
NIEUWEWEME-DE BRUIJN | JULIE | JOHANNA
NILSSON | MONICA | ELISABETH
NISBET | MARY | J
NIXON | MAUREEN | FRANCES BULA
NOBLE | MARY | I
NOE | PATRICK | JOHAN
NOGUERA GILI | FRANCESC
NOMURA | RIE
NORMAN | ALAN | JOHN
NORRIS | ANDREW | JOHN
NORRIS | PAUL | ANTHONY
NSOULI | KARIM | M
OCHIAI | KYOKO
O'CONNOR | SIMON | PHILIP JOHN
ODRISCOLL | TIMOTHY | JOHN
OFFUTT | DONNA | ANDERSON
OGURA | RICHARD | KAZUHIRO
OJJEH | LOULOU | MAY
OLVER | GERALD | B
ONDERCIN | BORIS
OPDEMOM | PETER
OPESKIN | BRIAN | ROBERT
ORBAUM | RUTH | LAURA
ORJI | NWAKERENDU | U
ORLANDO | TINA | MARGARET
OSHIMA | SAE
OSTERTAG | MARC | OLIVER
O'SULLIVAN | BRIAN | MARCUS
OTERO | FRANCISCO | JOSE
OTSUKA | EMIKO
OTSUKA | SHINSUKE
OUDMAIJER | VICTOR | THEO
OUIMET | JACQUES
OYOUNG | MELISSA | MABEL SAU-HUNG
PALANI | JAYABARATHY
PALAZZO | ALBERT | PELLEGRINO
PALMER | IRENE
PALMER | LORRAINE | ALIX EVELYN
PAMEIJER | PAMELA | MARIA
PARAT | MARIE-ODILE
PARK | ERIC | C
PARKER | THERESA | ELIZABETH
PARKER | THOMAS | GORDON
PARSONS | NELLIE | JANE
PARTINGTON WALSH | LORNA | BARBARA
PATEL | MRUNALINI | RAMESHCHANDRA
PATEL | PRAVINBHAI | CHATURBHAI
PATEL | SANJAY | S
PATRY | JANINE
PAYER | DORIS | E
PEACOCK | DOUG | GEORGE
PEARSON | BRIAN | JOSEPH
PEARSON | DOROTHY | PATRICIA
PEASE | RICHARD | G
PECHMANN | CHRISTINE | M.
PENG | JENNY | H
PEREIRA | MARCELA | SOBRINHO
PERLIS | HERSCHEL | AZRIEL
PERONNET | BENJAMIN
PETRIE | GREGORY | RAMSAY
PETRIG | BENNO | L
PETRIG | RUTH | V
PETROV | CONSTANTIN | ALEXANDER
PFAU | BRADLEY | MADISON
PHILIPPI | PETER | MICHAEL
PHILLIPS | NICOLAS | JOHN
PHILLIPS | SUSAN | ANGELA
PIGFORD | JOEL | EDWARD
PIGGIN | CHRISTOPHER | RICHARD
PIGNATELLI DI MONTERODUNI | FEDERICO
PIKE | ROBERT |
PINHEIRO | FLAVIO | FROES FONSECA SILV
PITTER | MIKAEL | JOHANN
POHL | FRANCES | KATHRYN
POLLEMAN | SARAH | ELIZABETH
POLLOCK | MARA | KATHERINE
POLONSKAYA | SUZANNA
POLONSKY | EHUD | MORDECHAI
PORETTI | CRISTINA
PORTER | SIMON | INGRAM
PORTHOUSE | KEITH
PORTHOUSE | REBECCA
POWELL | KAREN
POWELL | MARK | ANTHONY
POWER | JOSEPH | PATRICK
PRAVITRA | KALAYANARAK
PRESSMAN | ALEXANDER | SAMUEL
PRUTTON | SIMON | MARTIN
PRYER | CYNTHIA | SUE
PULVER | LANA | CHERYL MARKS
PYTELA | ROBERT
QUACKENBUSH | MAXWELL | ERIK
QUADERER | ANNE | MARIE
QUIMBO | CHRISTOPHER
QUIMET | MARIETTE
QUINIAN | MATTHEW
RADERMACHER | MICHAEL
RAFTERY | KEVIN | COLLINS
RAHMAN | ISABELLE | MAHNAAZ
RAND | PETER | WOODBURY
RANDLE | ALAN
RANGACHARI | RADHALAKSHMI
RAO | KAUSHIKI
RASSMUSSEN | DANIEL | HALDEN
RAY | LUCRETIA | N
RAYNOR | MARJORIE | BETH
REED | ARCHIE | SCOTT
REED | KATRINA | ANN
REEDIJK | RONALD
REEVES | ELIZABETH | MAILE
REHDER | SANDRA
REISCHL | CHRISTINE | MARIA
REN | XIAOMIN
RENGGER | KATHARINA | MARIA
RENSINK | MARIE | CLAIRE LOUISE
REUTER-ODENI | BEATE | GERTRUD JOHANNA
REYHER | CHARLES | EDWARD
REYNOLDS SCHIER | IRENE | SABINA
RICH | DANIELLE | DEBORAH
RIDLEY | AMY | HARGAN
RIDLEY | ELIZABETH | JANE
RINGLAND | PATRICK | JAMES
RIVIERE | FLORENCE | Y
ROBBINS | ORLANDO | TOUCHSTONE
ROBERS | BRYAN | MICHAEL
ROBERTSON | DONNA | CHERYLE
ROBERTSON | DAVID | S
ROBINO | GIANLUCA
ROBINSON | MARTIN | EPELI
ROBINSON | NANCY | J
ROBLES | VANESSA | ALMA
RODD | BRITTANY | JAD
RODRIGUEZ | SHELIA | MARITZA
ROELLINGHOFF | LARA | ALANIS
ROESLI | CHRISTOPH | OLIVER
ROMKEY | JAMIE | WILSON
ROSENSWEIG | ELISHA | JUDAH
ROSS | LOUIS | ARTHUR
ROSS | VICTORIA | HELENA
ROTHKOPF | STEPHEN | JAROS
ROTHWELL | PAMELA | SUE
ROWE | ANDREA | ANNE
RUCHTI | BRIAN | YVES
RUGGEBERG | CHRISTEL
RUIZ | TERESA
RUNDELL | ANDRE | RICHARD
RUNNELLS | ALLAN | LEE
RUNNELLS | SONJA | NELSINE
RUSCH | DORIS | CARMEN
RUSNOCK | HARRY | ANTON PAUL
RUSO | CHRISTINE | IRENE
RUSO | DOMENICO | ANTONIO
RUSO | VINCENT | JAMES
RUSSELL | IRENE | E
RUTGERS | TANNER | REECE NEVADA
SAADAT-LADJEVARDI | SABRINA | SUDABEH
SAENZ-ARCE | PEDRO | NOLASCO
SAITO | TAKU
SAKAGUCHI | IKUKO
SAKAGUCHI | TOSHIAKI
SALETU | ALEXANDER | BERND
SALETU | MICHAEL | TIMOTHY
SALGADO | ELIZABETH
SANDEL | MARK | RICHARD
SANGHERA | KANWALWIR
SARPI | LEONIDA | DARA
SAUNDERS | ELIZABETH | ANNE HELEN
SAVOURET | VINCENT | FRANCOIS
SAWKA | MARGARET | ELIZABETH
SAYAMA | FUMIE
SAYAMA | TAKASHI
SCAIFE | SAMUEL | ELIAS
SCHERRER | LUKAS | MARTIN
SCHIEPERS | CHRISTIAN | WILHELMUS
SCHILLER | JULIA | JANET
SCHINDELHAUER | SHIRLEY | ANN
SCHMIDT | ANNETTE | DANIELA
SCHNEIDER | ANNEMARIE
SCHNEIDER | YEHOCHAI
SCHOUMAKERS | FRANK | JOZEF
SCHREIER | FLORIAN | STEFAN
SCHULTZ ILLEK | ANGELIKA | MANITA
SCHUMANN | HEIKE
SCHUTTE | JEAN-THIERRY | CHARLES PAUL
SCHWEIMLER | TATIANA | ARCEO
SCOTTI | CHARLENE | DENNIS
SCOTTI | PAUL | DOUGLAS
SCURFIELD | ANNE | MARIE LAWTON
SEBUNYA | KADDU | KIWE
SEEAR | ROBERT | FREDERICK
SEEBER | SCOTT | WILLIAM
SEIXEIRO | STEVE | FERNANDES
SELLO | ADAM | CRAIG
SELLO | JACOB | TOBIAS
SENG | ANNA
SETTLES | MARCUS | RONALD
SEU | JUNG | SOO
SEVCIK | JULIUS
SHACHAT | KEITH | MAX
SHAFFER | MILO | SEBASTIAN
SHAIKH | LINDA | DIANE
SHANLEY | GUY
SHAPIRO | BAILLIE | ELLEN
SHARPE | WILLIAM | KIPLING
SHAW | JOANNA | CAROLINE
SHEIN | RENA
SHERLOCK | TONI | SUZANNE
SHETTLE | CYNTHIA | DENISE
SHIMOMA | ISAMU
SHIMOMA | YOKO
SHPAK | PETER | JOHN EMIL ERLING
SHU | QIANG
SIEGELE | JESSICA | MARIE
SILVA | CASSANDRA | KAY
SILVER | MARIAN | RACHEL
SIMON | CELINE | B
SIMON | PIERRE | MICHEL GERMAIN RAYMOND
SIMPSON | MORAG | LESLEY FRASER
SIMPSON | SUSAN | E
SINCLAIR | SUSAN | ELLEN
SINGER | JEFFREY | MICHAEL
SINGH | NIRAJ | KUMAR
SIROTNIK | GARETH | STEPHEN
SKAVYSH | ALEXANDER
SKEATE | ROBERT | CHARLES
SLITER | ROBERT | EARL
SLOWE | SOPHIE | MAY
SMART | ANDREW | DAVID
SMITH | CHRISTINE | PATRICIA
SMITH | DANIELLE | LOUISE
SMITH | GREGORY | JOHN
SMITH | LEON | THURSFIELD
SMITH | MOIRA | BEATRICE
SMITH | REBECCA | KATHERINE
SNYDER | WILLIAM | FLECK
SNYDER HEIJNEN | GLENDA | JOY
SOFFE | MATTHEW | CHRISTOPHER
SOHI | CHIAU | JOO
SOHN | GI | YOUNG
SOLE DUCH | PERE
SONNENBERG | DORIS
SONODA HARRIS | LYNN
SORDO | JOSE | IGNACIO
SORENSEN | JOHN | AARESTRUP
SOUBEYRE | JULIEN
SOWDEN | HARVEY | BRUCE
SPARKS | DERRICK | ADAM
SPEICHER | LARA | ELISABETH
SPENCER | JAN | BRYON C.
SPIES | ANNA | ROSALIND PATRICIA
SPRINGATE | JILL | P
SRINIVASULU | DINESH | KUMAR AKAMBARAM
ST JOHN-GREEN | CELIA
ST PIERRE | KIMBERLY | ANN
ST PIERRE | RACHELLE | CHRISTINE
STAMBOULI | ANNE | MARIE
STANANOUGHT | LESLEY
STANGELBERGER | AURELIA | SOPHIA
STECKLEY | CHERYL | L
STEELE | GREGORY | ROBERT
STEEVES | LAURA | ANN
STELLA | FRANK
STELLA | WENDY | A
STEPAK | AVNER
STERN | LINDA
STERNBERG | SHELLEY | ANN
STEVENHAGEN PEPPING | ELISABETH | CORNELIA MARIA
STEVENS | KENDALL | EDWARD
STEWART | DORIAN | ANDREW
STEWART | JOY | MARGARET
STEYSKAL | JORG | NIKLAS
STIPE | SANDRA | SUE
STIRZENBECHER | CLAUS | CHRISTOPH
STOBART | KAILEE | ELIZABETH
STODDARD | AMY | KIMBALL
STOECKLI | STEPHANIE | MARIE
STOLTMAN | PATRICK
STOUT | DARYL | MORRIS
STOVER | AYLSSA | LEA
STOYKO | RONALD | FRED
STRANGIS | JEAN-LOUIS
STRATTON | ANTHONY | EDWARD
STREICH | OLIVER | STEPHAN
STROMEYER | HANS | STEFAN
STUART | IAN | ARTHUR
STUBBINGS | CARL | S
STUBBINGS | KIM | M
STUECKELBERGER | ANNA | LUISA
STUMM | PATRICK | MARK
SUESCUM | ALFREDO
SUGITA | SHUUICHI
SUMIN | DMITRY | KONSTANTINOVICH
SUN | YI
SURRY | PATRICK | D
SUTANTO | JESSELYNN | QUINN
SUTER | KARIN | MARIE
SUTTON | EMILY | ANNE
SUZUKI | KATSUMI
SWIFT | PAMELA | B
SWIFT | ROBERT | M
SWIFT | TIMOTHY | LOREN
TABACHNICK | KAREN | FAITH
TAKAHASHI | HIROMITSU
TANAKA | KYOKO
TANAKA | REI
TANIGUCHI | SUSAN
TANIGUCHI | IWAAKI
TAY | KIRK | SHIUAN
TAYLOR | CAROL | MAREE
TAYLOR | DAVID | ALEXANDER
TAYLOR | MICHAEL | SCOTT
TAYLOR-HELL | CATHERINE | MORGANA
TAYSI | AYSE | YASEMIN
TEATHER | DAVID
TEELAND | WALTER | F
TEN-WOLDE | BEVERLY | ANN
TER WEEME | PAUL
TERAO | AKIRA
THIOLLIER | ALEXANDRE | HONORE MARIE
THOMAS | CHRISTOPHER | MARK ROBERT
THOMPSON | KELSEY | JO
THOMPSON | NICHOLAS | DALE
THOMPSON | WILLIAM | JOSEPH
THOMSON | BARBARA | JOAN
TIBURTIUS | PHILLIP | ALEXANDER
TINBERG | RICKARD | JON
TORIDE | HIROSHI
TOTAH | MICHAEL
TOULIOPOULOS | SERAFIM
TOWNS | MIKI
TRACY JR | GALEN | LAVERNE
TRENT | SHARON | SUE
TREPP | VALERIE | CHRISTINE
TRESSLER | TANIA | D
TROYON | HELENE | BRIGITTE
TSUCHIDA | JUNKO
TUNINGA | NICK
TURNER | KARREN | E
TYGIELSKI | MAJA
UCHIKOSHI | KAZUMI
UMEDA | KAZHUHIKO
UMEDA | TOAKO
UVA | TEODORO | VITO
VAILLANCOURT | PAULA
VAN ANDERS | GREG
VAN ANDERS | SARI | M.
VAN BARNEVELD | JOHN
VAN DE GOOR | MARIE | JACQUELINE
VAN DER WILDEN | ERIC
VAN DIJKEN | SOPHIE | ELISABETH
VAN DYKE | DEBRA | ANNE
VAN HOREBECK | SAM | MARIA EMIEL
VAN HOVEN | JOCELYN
VAN LANEN | EDWARD | JAMES
VAN NIEUWKERK | JAN | A.
VAN OOSTEN | JEROEN
VAN STEENBERGEN | ESTHER
VANDENBERGH | JEANINE | JOAN CECELIA
VANDEPUTTE | PATRICK | ANDRE
VANHESSCHE | KOENRAAD | PAUL MARCEL
VAP | CINDY | K
VARTANIAN-BRIANZA | SYLVIA | HAMPARZOUM
VASILEVA | TANJA
VENDERINK | MARLENE | JOANNA
VERDELLET COUTURE | ANNIE | JOELLE MARIE
VERDENIUS | INGE | LIAN
VERSAVEL | MARIA | ALIX
VEZEAU | MARCEL
VICKERS | BARRON
VINCI | ALESSIO
VOGAS | ARISTEIDES
VOLLMER | JULIANE | ANNA
VOLOS | HARIS
VON DRASEK | SARAH | ELIZABETH
WAKEFIELD | STEPHANIE | ANNE
WALDMANN | MAIA
WALDMANN | RONALD
WALKER | FRITH | J
WALKER | JOHANNES | NIKOLAUS
WALMAN | JAIME | LOUISE
WALTER JR | RICHARD | LEE
WAN | QING
WANDERS | SUSAN
WANG | CHENGHUI
WANG | CHRISTINA
WANG | WEIJIAN
WANG | YI | FAN
WANG | YING
WARD | KRISTINA | ANNE
WARDZINSKI | ANDRZEJ | JERZY
WARFIELD | CARLA | PATRICIA
WARLOE | THOMAS | EVAN
WARNSBY | STEPHEN | PETER
WARRIMER | INEZ | LIANE
WARTENERG | NIELS | VIGGO FRIIS
WATANABE | JUNKO
WATANABE | KIMIKO
WATT | KEVIN | SPENCER
WEBB, JR | CECIL | POITEVENT
WEEKS | GRAHAM | NEIL
WEERDENBURG | CAROL | ANN
WEHKING | CAROL | LEIGH
WEI | GRACE | LINGJU
WEIDINGER-HOELZER | SUSANNA | LUISE
WEIR | DULCE | CLAIRE
WEITKAMP | EMMA | LOUISA CAROLINE
WELLINGS | SHAUNA | EVELYN
WELLINGSTEIN | TAMAR
WELLINGSTEIN | YUVAL
WELLMAN | DIANE | ELIZABETH
WELLS | IAN
WELLS | MARILYN | SUSAN
WENDEL | DANIELLE | M
WEST | JOHN | EDD
WEST | MARIA | CARMEN
WESTBERG NEHM | KARIN | CHARLOTTA
WESTON | CRYSTAL | DAWN
WHALAN | HUGH | ROBERT
WHITAKER | ANNA | MARIE
WHITVER | HEATHER | ELIZABETH
WICKRAMARACHI | PIERRE | LANKA ALAIN M
WIENS | ORAN | KENT
WIESENTHAL | DAVID | LAWRENCE
WIESENTHAL | SANDRA | LOUISE
WIESER | EDWARD | JAMES
WIGLEY | CAROL | ELIZABETH
WILDER | CHANTELLE | MARIE
WILKINSON | MICHAEL | C
WILLEMS | MARK
WILLIAMS | IAIN | PAUL
WILLIAMS | KATHLEEN | FAITH
WILLIAMS | MICHAEL | SINCLAIR
WILLKE | SYLVIE | MARIE
WILLSHER | MARK | SIMON
WILSON | DEBORAH | JEAN
WILSON | ERI
WINNER | PETER | A
WINTERNITZ | LORRAINE | JOANNE
WINTERNITZ | PIPER | ELIZABETH
WITKOS | KATARZYNA
WOLDRING | ANNA | VOORTHUIJSEN
WOLF | ANNETTE | BETTINA
WOLTERS | ANN-KATRIN
WONG | ALFRED | TSZ CHUN
WONG | ANITA | KAR WAI
WONG | SIU | HA IRIS
WOOD | THOMAS | BARRY
WOODS | HYLA | EMMI
WOODY | SHEILA | ROXANNE
WRIGHT | EDEN | KATHLEEN
WRIGHT | KELLY | MARIE
WRIGHT | ROY | ALFRED
WRIGHT | SVENJA | MARIA
WU | HUIMING
WU | LAN
WUESTEMANN | THIES
WYMAN-ROSENTHAL | JANEFER
XIA | JIE
XIE | GONGHUI
XIE | GUO | LEE
XIE | XUAN
YAGHOUBPOUR | GOLZAR
YAMADA | NOBUHIKO
YAMADA | SADAYOSHI
YAMAMOTO | VALENCIA
YAMAMOTO | YOKO
YAMAMOTO | TAKEO
YAN | JUNJIE
YANG | JIHOON
YANG | MICHAEL | CHAO-CHUEN
YANG | VINCENT | ALINDOGAN
YAO | YUE
YASHIRO | YUMIKO
YASNY | JEFFREY | SCOTT
YATES | JILL
YATRACOS | YANNIS
YE | JING
YELLEN | PENNY | F
YEOMANSON | JOHN
YERMOLITSKAYA | YEKATERINA | GENNADIYEVNA
YIM | SOPHIA | HOI SEE
YIU | INGRID
YOKOYAMA | TSUYOSHI | SERGE
YON | SOON | HO
YOON | JUNGMO
YOUARD | ANDREW | RICHARD FREELAND
YOUNGER | STUART | GORDON
YUSUF | HUMA
ZAGIER | DON | BERNARD
ZARCHAN | DANIEL | GOFSEYEFF
ZEMEK | MARGARET | THEODORA
ZHANG | MARK | XINGJIAN
ZHANG | SHUTING
ZHANG | YAN | MIN
ZHANG | JUN
ZHENG | YAQIN
ZHOU | KEVIN
ZHOU | LULU
ZIENKIEWICZ | ANDREW | PETERE
ZINN | ANAT
ZIPPLIESS | HANS | FRANK
ZIPPLIESS | RAMONA
ZISSERSON | BENJAMIN | MICHAEL
ZIVNY | JOSEPH | ANDRE
ZUCK | AUDREY | ABRAHAM
ZUEGER | DORIS | VERENA

Dated: July 25, 2022.
Steven B. Levine,
Manager, Team 1940, CSDC—Compliance Support, Development & Communications, LB&I: WEIIC: IIC: T4.

[FR Doc. 2022-16187 Filed 7-27-22; 8:45 am]

BILLING CODE 4830-01-P